DEPARTMENT OF THE INTERIOR

National Park Service

[N6819; NPS-WASO-NAGPRA-NPS0041640; PPWOCRADN0-PCU00RP14.R50000]

Notice of Inventory Completion: U.S. Department of Agriculture, Forest Service, Dakota Prairie Grasslands, Bismarck, ND

AGENCY: National Park Service, Interior.

ACTION: Notice.

SUMMARY: In accordance with the Native American Graves Protection and Repatriation Act (NAGPRA), the U.S. Department of Agriculture, Forest Service, Dakota Prairie Grasslands has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Bethany A. Ihle, Dakota Prairie Grasslands, 2000 Miriam Circle, Bismarck, ND 58501, email bethany.ihle@usda.gov.

SUPPLEMENTARY INFORMATION: This notice is published as part of the National Park Service's administrative responsibilities under NAGPRA. The determinations in this notice are the sole responsibility of the Dakota Prairie Grasslands, and additional information on the determinations in this notice, including the results of consultation, can be found in its inventory or related records. The National Park Service is not responsible for the determinations in this notice.

Abstract of Information Available

Human remains representing at least one individual have been identified. The 877 associated funerary objects are flaking debris, stone tool fragments, utilized flakes, pottery sherds, bison and/or deer bone fragments, cores, a projectile point, and projectile point fragments.

In 1984, one human vertebra and another possible human vertebra fragment were removed from site 32MZ173 during evaluative test excavations for a proposed well pad and access road in McKenzie County, ND. The associated funerary objects were recovered from the same test unit and nearby test units and curated all together at the North Dakota Heritage Center. The site was determined eligible for the National Register of Historic Places, and as a result, the proposed well pad and access road were not constructed. A later review of the collection was done by the Dakota Prairie Grasslands, resulting in deaccessioning of the collection and initiation of tribal consultation. No known hazardous substances were used to treat the human remains or funerary items.

Cultural Affiliation

Based on the information available and the results of consultation, cultural affiliation is reasonably identified by the geographical location or acquisition history of the human remains and associated funerary objects described in this notice.

Determinations

The Dakota Prairie Grasslands has determined that:

• The human remains described in this notice represent the physical remains of at least one individual of Native American ancestry.

• The 877 objects described in this notice are reasonably believed to have been placed intentionally with or near individual human remains at the time of death or later as part of the death rite or ceremony.

• There is a connection between the human remains and associated funerary objects described in this notice and the Assiniboine and Sioux Tribes of the Fort Peck Indian Reservation, Montana and the Three Affiliated Tribes of the Fort Berthold Reservation, North Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the Dakota Prairie Grasslands must determine the most appropriate requestor prior to repatriation. Requests for joint repatriation of the human remains and associated funerary objects are considered a single request and not competing requests. The Dakota Prairie Grasslands is responsible for sending a copy of this notice to the Indian Tribes and Native Hawaiian organizations identified in this notice and any other consulting parties.

Authority: Native American Graves Protection and Repatriation Act, 25 U.S.C. 3003, and the implementing regulations, 43 CFR 10.10.

Dated: December 11, 2025.
Melanie O'Brien,
Manager, National NAGPRA Program.

[FR Doc. 2025-23362 Filed 12-18-25; 8:45 am]

BILLING CODE 4312-52-P